DEPARTMENT OF AGRICULTURE

Rural Business-Cooperative Service

7 CFR Part 4280

Notice of Public Meeting on the Rural Economic Development Loan and Grant Program Proposed Rule

AGENCY: Rural Business-Cooperative Service, USDA.

ACTION: Notice of public meeting.

SUMMARY: This Notice announces a Public Meeting on the Rural Economic Development Loan and Grant Program. On December 15, 1999, (64 FR 69937), the Agency published a proposed rule on the Rural Economic Development Loan and Grant Program. The public comment period on the proposed rule was extended through February 14, 2000. During the comment period, the Agency received 28 written comments. The Agency has decided to conduct a single meeting on this proposed rule. The intent of the meeting is to allow the Agency to listen to oral presentations from the general public on the proposed rule.

DATES: The meeting, which is open to the general public, will be conducted on August 2, 2000. The meeting will begin at 9:00 a.m. and conclude no later than 12:00 noon.

ADDRESSES: The meeting will be held in the Jefferson Auditorium, U.S. Department of Agriculture, South Building, 1400 Independence Avenue, SW., Washington, DC 20250.

FOR FURTHER INFORMATION CONTACT: If you wish to make an oral presentation, please contact Cheryl Thompson, Rural Development, U.S. Department of Agriculture, via fax on (202) 692-0013 or send an e-mail message to cthompso@rus.usda.gov at least three (3) business days before the hearing. Please indicate any special needs. You should receive a confirmation by telephone or e-mail that the Agency has received your request.

The Agency will listen to each presentation at the hearing. If a large number of participants desires to make presentations, a time limitation will be imposed on each presentation. Since this is a listening session and the rule is still being developed, Agency officials will not be responding to the comments during the hearing. The Agency will respond to the comments made at the hearing in the preamble to the final rule as part of the rule-making process under the Administrative Procedures Act. Since the Agency received written comments on the rule during the comment period, the Agency will not be accepting additional written comments on the proposed rule. The presentation may not include questions for other attendees of the general public or Agency officials, nor may it address comments to other attendees of the general public. If you have questions about the meeting or proposed rule, you may contact Mark Wyatt, Specialty Lenders Division, Rural Business-Cooperative Service, U.S. Department of Agriculture, STOP 3225, 1400 Independence Ave. SW, Washington, DC 20250-3225, Telephone (202) 720-2383 or e-mail mwyatt@rus.usda.gov.

Dated: July 13, 2000.
Wilbur T. Peer,
Acting Administrator, Rural Business-Cooperative Service.

[FR Doc. 00-18324 Filed 7-20-00; 8:45 am]

BILLING CODE 3410-XY-U